DEPARTMENT OF TRANSPORTATION

Federal Highway Administration

Announcement of Application Procedure and Deadlines for the Truck Parking Initiative

AGENCY: Federal Highway Administration (FHWA), DOT.

ACTION: Notice; solicitation of applications.

SUMMARY: This notice solicits applications for the truck parking initiative for which funding is available under section 1305 of the Safe, Accountable, Flexible, Efficient Transportation Equity Act: A Legacy for Users (SAFETEA-LU). SAFETEA-LU directed the Secretary to establish a pilot program to address the shortage of long-term parking for commercial motor vehicles on the National Highway System. States, metropolitan planning organizations (MPOs) and local governments are eligible for the funding available for fiscal years (FY) 2006-2009. Section 1305 allows for a wide range of eligible projects, ranging from construction of spaces and other capital improvements to using intelligent transportation systems (ITS) technology to increase information on the availability of both public and private commercial vehicle parking spaces. For purposes of this program, long-term parking is defined as parking available for 10 or more consecutive hours.

DATES: Applications must be received by the FHWA Division Office no later than February 14, 2008.

ADDRESSES: The FHWA Division Office locations can be found at the following URL: http://www.fhwa.dot.gov/field.html#fieldsites.

FOR FURTHER INFORMATION CONTACT: Mr. Michael P. Onder, Office of Freight Management and Operations, (202) 366-2639, michael.onder@dot.gov, for legal questions, Mr. Robert Black, Office of the Chief Counsel, (202) 366-1359, robert.black@dot.gov; Federal Highway Administration, Department of Transportation, 1200 New Jersey Avenue, SE., Washington, DC 20590. Office hours are from 7:45 a.m. to 4:15 p.m., Monday through Friday, except Federal holidays.

SUPPLEMENTARY INFORMATION:

Electronic Access

An electronic copy of this notice may be downloaded from the Office of the Federal Register's home page at http://www.archives.gov and the Government Printing Office's Web site at http://www.access.gpo.gov.

I. Background

The Truck Parking Initiative furthers the goals of the Department of Transportation's new National Strategy to Reduce Congestion on America's Transportation Network, announced on May 16, 2006.¹ By creating a program that provides funds to address long-term truck parking on the National Highway System, the Department anticipates that commercial motor vehicles will be better able to plan rest stops and better time their transit or loading/unloading within urban areas, thereby reducing the urban area's congestion.

¹ Speaking before the National Retail Federation's annual conference on May 16, 2006, in Washington, D.C., former U.S. Department of Transportation Secretary Norman Mineta unveiled a new plan to reduce congestion plaguing America's roads, rail, and airports. The National Strategy to Reduce Congestion on America's Transportation Network includes a number of initiatives designed to reduce transportation congestion. The transcript of these remarks is available at the following URL: http://dot.gov/minetasp051606.htm.

The shortage of long-term truck parking on the National Highway System (NHS) is a problem that needs to be addressed. The 2002 FHWA Report “Study of Adequacy of Parking Facilities” ² indicated that while truck parking shortages are either non-existent or corridor-specific in some States, severe and pervasive shortages exist in some States and regions. The report recommendations include expansion or improvement of public rest areas; expansion or improvement of commercial truck stops and travel plazas; use of public-private partnerships; educating or informing drivers about available spaces; and changing current parking rules. This lack of available parking not only adds to congestion in urban areas, but also may affect safety by reducing the opportunities for drivers to obtain rest needed to comply with the Federal Motor Carrier Safety Regulations, Hours of Service of Drivers (49 CFR 395.3(a)(1)), which prohibit “driving more than 11 cumulative hours following 10 consecutive hours off-duty.” Further, parking areas are often designed or maintained for short-term parking only, and as a result, allow parking for limited time periods. Section 1305 of SAFETEA-LU (Pub. L. 109-59; Aug. 10, 2005) directed the Secretary of Transportation to establish a pilot program to address the long-term parking shortages along the NHS. Eligible projects under section 1305 include projects that:

² A copy of this document is available at http://safety.fhwa.dot.gov/media/repctoc.htm.

1. Promote the real-time dissemination of publicly or privately provided commercial motor vehicle parking availability on the NHS using ITS and other means;

2. Open non-traditional facilities to commercial motor vehicle parking, including inspection and weigh stations, and park and ride facilities;

3. Make capital improvements to public commercial motor vehicle parking facilities currently closed on a seasonal basis to allow the facilities to remain open year round;

4. Construct turnouts along the NHS (which must comply with appropriate design standards) to facilitate commercial motor vehicle access to parking facilities, and/or improve the geometric design of interchanges to improve access to commercial motor vehicle parking facilities. This should include improvements to the local street network or access to the proposed parking site. Applicable references, including standards, recommended industry practices, and references that provide technical guidance to assist State and local agencies in addressing truck parking issues, are listed below:

AASHTO (www.transportation.org)

A Policy on Geometric Design of Highways and Streets, 2004 (Green Book)

A Policy on Design Standards Interstate System, January 2005

Guide to Park and Ride Facilities, 2004

Guide for Development of Rest Areas on Major Arterials and Freeways, Third Edition

Transportation Research Board (http://trb.org)

Access Management Manual

Institute of Transportation Engineers (www.ite.org)

Transportation Impact Analysis for Site Development: An ITE Proposed Recommended Practice, 2006

5. Construct commercial motor vehicle parking facilities adjacent to commercial truck stops and travel plazas; and

6. Construct safety rest areas that include parking for commercial motor vehicles.

The FHWA believes that projects designed to disseminate information on the availability and/or location of public or private long-term parking spaces provide the greatest opportunity to maximize the effectiveness of this pilot program.

The FHWA Administrator, acting on behalf of the Secretary of Transportation, is authorized to provide Federal grant assistance for the Truck Parking Facilities pilot grant program on a discretionary basis. After reviewing the proposals from the FY06 and FY07 solicitations, the Administrator has decided that the best approach to implementing this program, and the approach that will provide the most comprehensive and best return on investment, is to apply this program on a corridor-wide basis. Many of the FY06 and FY07 proposals were meritorious. However, choosing from among those proposals would have resulted in spot relief at isolated locations across the Interstate system. Applying this program to a congested corridor focuses limited resources where deployment provides a mechanism to potentially solve long-term commercial motor vehicle parking for a section of the Interstate system.

Accordingly, FHWA will give priority consideration to applications for Truck Parking projects from those States, MPO's and local governments that have measurable safety, congestion reduction and air quality benefits that are located within a Corridor of the Future. The States within these corridors have already proposed congestion mitigation and safety plans for accommodating freight traffic through their corridors, and have been selected as candidates to implement those plans should the necessary funding become available. The selected Corridors of the Future can be found at http://www.fightgridlocknow.gov/corridors.htm. The FHWA seeks solutions from a corridor perspective and encourages multi-State cooperation in proposing for this grant program.

The congestion reduction criteria also support the objectives of the National Strategy to Reduce Congestion on America's Transportation Network (the “Congestion Initiative”) established in May 2006 by the Department.

The candidate projects must meet the eligibility criteria for the Truck Parking Initiative program and will be evaluated on the selection criteria established for the program along with the safety and congestion criteria described below. Although funding for the Truck Parking Initiative is limited, large-scale corridor focused projects are encouraged to apply for Truck Parking Initiative funding.

Highway safety has been an increasing focus and priority for FHWA over the recent past. Targeting discretionary funding, in a results-oriented comprehensive approach to safety, is a means of directing limited discretionary funding to those projects that will yield tangible transportation and safety benefits. With respect to safety, applicants should describe the safety benefits associated with the project or activity for which funding is sought, including whether the project, activity, or improvement:

• Will result in a measurable reduction in the loss of property, injury, or life;

• Incorporates innovative safety design or operational techniques, including variable pricing for congestion reduction, electronic tolling, barrier systems, and intersection-related enhancements;

• Incorporates innovative construction work zone strategies to improve safety;

• Is located on a rural road that is in need of priority attention based on analysis of safety experience; and/or

• Is located in an urban area of high injury or fatality, and is an initiative to improve the design, operation or other aspect of the existing facility that will result in a measurable safety improvement.

Increasing mobility by reducing congestion has also been a priority for FHWA over the past few years. The application of discretionary funding to improve mobility and reduce congestion will yield tangible transportation and economic benefits that should far exceed the limited amount of discretionary funding provided to the project. In furtherance of measuring the congestion reduction and mobility benefits associated with a project that qualifies for funding under the Truck Parking Initiative program, within the application, the applicant should describe how the project, activity or improvement:

• Relieves congestion in an urban area or along a major transportation corridor;

• Employs operational and technological improvements that promote safety and congestion relief; and/or addresses major freight bottlenecks.

Appropriate quantitative data should be provided to support the safety and congestion relief discussion.

For more information on the DOT Congestion Initiative, please refer to http://www.fhwa.dot.gov/congestion/index.htm.

II. Funding Information

Section 1305 authorizes $6.25 million in contract authority for each of the fiscal years 2006 through 2009. The obligation limitation reduction reduces the total amount of contract authority that is available for obligation. Funds authorized to carry out this section remain available until expended.

The Administrator has determined that all 4 years of discretionary contracting authority under the program may be made available through this single solicitation. No awards will be made for the proposals received in response to the FY06 and FY07 solicitations. Instead, funds for 2006 and 2007 will be redirected under this comprehensive approach. Funds from FY08 and FY09 may be allocated in response to this solicitation, but would not be available for obligation until the fiscal year the funds are made available for obligation.

Projects funded under this section shall be treated as projects on a Federal-aid System under Chapter 1 of Title 23, United States Code.

Grants may be funded at an 80 to 100 percent funding level based on the criteria specified in Sections 120(b) and 120(c) of Title 23, United States Code.

III. Application Submission

This memo will also be posted on the FHWA Office of Freight Management and Operations Web site, http://www.ops.fhwa.dot.gov/freight. An original and 10 copies of each application must be submitted by a State Department of Transportation to the FHWA's Office of Freight Management and Operations, via the FHWA Division Office in the State in which the application was submitted. The FHWA Division Office locations can be found at the following URL: http://www.fhwa.dot.gov/field.html#fieldsites. Electronic submissions will not be accepted. Awarded projects will be administered by the applicable State Department of Transportation as a Federal-aid grant.

In accordance with the Paperwork Reduction Act, we have received clearance from OMB for this action (OMB Control number 2125-0610, March 31, 2010).

IV. Proposal Content

All proposals should include the following:

1. A detailed project description, which would include the extent of the long-term truck parking shortage in the corridor to be addressed, along with contact information for the project's primary point of contact, and whether funds are being requested under 23 U.S.C. 120(b) or 120(c). Data helping to define the shortage may include truck volume (Average Daily Truck Traffic—ADTT) in the corridor to be addressed, current number of long-term commercial motor vehicle parking spaces, use of current long-term parking spaces, driver surveys, observational field studies, proximity to freight loading/unloading facilities, and proximity to the NHS.

2. The rationale for the project should include an analysis and demonstration of how the proposed project will positively affect truck parking, safety, traffic congestion, or air quality in the identified corridor. Examples may include: Advance information on availability of parking that may help to reduce the number of trucks parked on roadsides and increase the use of available truck parking spaces.

3. The scope of work should include a complete listing of activities to be funded through the grant, including technology development, information processing, information integration activities, developmental phase activities (planning, feasibility analysis, environmental review, engineering or design work, and other activities), construction, reconstruction, acquisition of real property (including land related to the project and improvements to land), environmental mitigation, construction contingencies, acquisition of equipment, and operational improvements.

4. Stakeholder identification should include evidence of prior consultation and/or partnership with affected MPOs, local governments, community groups, private providers of commercial motor vehicle parking, and motorist and trucking organizations. Also, include a listing of all public and private partners, and the role each will play in the execution of the project. Commitment/consultation examples may include: Memorandums of Agreement, Memorandums of Understanding, contracts, meeting minutes, letters of support/commitment, and documentation in a metropolitan transportation improvement program (TIP) or statewide transportation improvement program (STIP).

5. A detailed quantification of eligible project costs by activity, an identification of all funding sources that will supplement the grant and be necessary to fully fund the project, and the anticipated dates on which the additional funds are to be made available. Public and private sources of funds (non-Federal commitment) will be considered by the FHWA as an in-kind match contributing to the project. State matching funds will be required for projects eligible under 23 U.S.C. 120(b).

6. Applicants should provide a timeline that includes work to be completed and anticipated funding cycles. Gantt charts are preferred.

7. Environmental process: Please include a timeline for complying with the National Environmental Policy Act (NEPA) process, if applicable, or if not applicable, include a statement to that effect.

8. Include a project map that consists of a schematic illustration depicting the project and connecting transportation infrastructure. (Although no proposals are to be submitted electronically, digital maps would be preferred. Please indicate in the proposal if the maps are available digitally.)

9. Measurement Plan. Submitter should describe a measurement plan to determine whether or not the project achieved its intended results. The measurement plan should continue for 3 years beyond the completion date of the project. After the 3-year period, a final report quantifying the results of the project should be submitted to the FHWA.

10. Proposals may not exceed 20 pages in length.

V. Applicant Review Information

Grant applications that contain the elements detailed in this notice will be scored competitively according to the soundness of their methodology and subject to the criteria listed below. Sub-factors listed under each factor are of equal importance unless otherwise noted.

A. Scoring Criteria

1. Demonstration of severe shortage (number of spaces, access to existing spaces or information/knowledge of space availability) of commercial motor vehicle parking capacity/utilization in the corridor. (Multi-State highway corridors are the focus of these projects. Consider the business requirements of getting the goods to market, while also considering the government regulations associated with hours of service.) (20 percent)

Examples used to demonstrate severe shortage may include:

○ Average Daily Truck Traffic (ADTT) in proposal area.

○ Average daily shortfall of truck parking in proposal area.

○ Ratio of ADTT to average daily shortfall of truck parking in proposal area.

○ Proximity to NHS.

2. The extent to which the proposed solution resolves the described shortage (35 percent).

Examples should include:

○ Number of truck parking spaces per day that will be used as a result of the proposed solution.

○ The effect on highway safety, traffic congestion, and/or air quality.

3. Cost effectiveness of proposal (25 percent).

Examples should include:

○ How many truck parking spaces will be used per day per dollar expended?

○ Total cost of project, including all non-Federal funds that will be contributed to the project.

4. Scope of proposal (20 percent).

Examples should include:

○ Evidence of a wide range of input from affected parties, including State and local governments, community groups, private providers of commercial motor vehicle parking, and motorist and trucking organizations.

○ Whether the principles outlined in the proposal can be applied to other locations/projects and possibly serve as a model for other locations.

B. Review Standards

1. All applications for grants should be submitted to the FHWA Division Office by the State DOT by the date specified in this notice.

2. State DOTs should ensure that the project proposal is compatible with or documented on their planning documents (TIP and STIP). They should also validate, to the extent the can, any analytic data.

3. Each application will be reviewed for conformance with the provisions in this notice.

4. Applications lacking any of the mandatory elements or arriving after the deadline for submission will not be considered. To assure full consideration, proposals should not exceed 20 pages in length.

5. Applicants may be contacted for additional information or clarification.

6. Applications complying with the requirements outlined in this notice will be evaluated competitively by a panel selected by the Director, Office of Freight Management and Operations, and will be scored as described in the scoring criteria.

7. If the FHWA determines that the project is technically or financially unfeasible, FHWA will notify the applicant, in writing.

8. The FHWA reserves the right to partially fund or request modification of projects.

9. All information described in the submitter's proposal elements should be quantifiable and sourced.

10. Submitter should describe a measurement plan to determine whether or not the project will achieve its intended results. The measurement plan should continue for 3 years beyond the date of the project. After a 3-year period, a final report quantifying the results of the project should be submitted to the FHWA.

11. The proposed projects should not compete with local businesses or commercial enterprises.

VI. Selection Process

The grant applications will be ranked by final score. The FHWA will select applications based on those rankings, subject to the availability of funds.

VII. Award Administration Information

A. Award Notices

The FHWA recognizes that each funded project is unique, and therefore may attach conditions to different projects' award documents. The FHWA will send an award letter with a grant agreement that contains all the terms and conditions for the grant. These successful applicants must execute and return the grant agreement, accompanied by any additional items required by the grant agreement.

B. Performance Reporting and Measurement

Failure to provide the measurement plan will be considered during the past-performance element of future grant applications.

Authority: Section 1305, Pub. L. 109-59; 119 Stat. 1214; Aug. 10, 2005.

Issued on: November 8, 2007.
J. Richard Capka,
Administrator, Federal Highway Administration.

[FR Doc. E7-22432 Filed 11-15-07; 8:45 am]

BILLING CODE 4910-22-P